DEPARTMENT OF AGRICULTURE

Forest Service

Availability of the Old Growth Settlement Agreement Environmental Assessment for an Amendment to the Huron-Manistee National Forests' Land and Resource Management Plan; Alcona, Crawford, Iosco, Lake, Manistee, Mason, Mecosta, Montcalm, Muskegon, Newaygo, Oceana, Ogemaw, Oscoda, and Wexford Counties, Michigan

AGENCY: Forest Service, USDA.

ACTION: Notice of Availability of the Huron-Manistee National Forests' Old Growth Settlement Agreement Environmental Assessment.

SUMMARY: On February 28, 2001, the Huron-Manistee National Forests completed the Old Growth Settlement Agreement Environmental Assessment Amendment to the 1986 Huron-Manistee National Forests' Land and Resource Management Plan (Forest Plan). Copies of the Environmental Assessment are available upon request. This amendment proposes to: designate approximately 173,000 acres of old growth; manage old growth primarily by natural processes and where necessary perform old growth restoration activities; establish forest-wide aquatic and riparian standards and guidelines; and designate approximately 10,500 acres of semiprimitive areas in Loda Lake, Condon Lakes East, and Condon Lakes West. This notice is provided pursuant to National Forest System Land and Resource Management Planning regulations (36 CFR 219.35, 65 FR 67579, November 9, 2000).

DATES: On February 28, 2001, the Huron-Manistee National Forests completed the Old Growth Settlement Agreement Environmental Assessment Amendment to the 1986 Huron-Manistee National Forests' Land and Resource Management Plan (Forest Plan). A legal notice will be published in the Cadillac News, Michigan newspaper, in accordance with 36 CFR 215.9.

ADDRESSES: Send requests for documents to: Old Growth Initiative, Huron-Manistee National Forests, 1755 S. Mitchell St., Cadillac, Michigan 49601, Alternatively, direct electronic mail to: r9huronmanistee@fs.fed.us ATTN: Old Growth or visit the Huron-Manistee National Forests' web site (www.fs.fed.us/r9/hmnf).

FOR FURTHER INFORMATION CONTACT: James DiMaio, Forest Planner, at 231-775-5023 (8759); TDD 231-745-7701; or direct electronic mail to: r9huronmanistee@fs.fed.us.

RESPONSIBLE OFFICIAL: James L. Schuler, Forest Supervisor, 1755 S. Mitchell St., Cadillac, Michigan 49601

SUPPLEMENTARY INFORMATION: The Huron-Manistee National Forests' Old Growth Settlement Agreement Environmental Assessment Amendment proposes to: designate approximately 173,000 acres of old growth; manage old growth primarily by natural processes and where necessary perform old growth restoration activities; establish forest-wide aquatic and riparian standards and guidelines; and designate approximately 10,500 acres of semiprimitive areas in Loda Lake, Condon Lakes East, and Condon Lakes West. This proposal is a minor amendment to the Huron-Manistee National Forests' Land and Resource Management Plan. This is a non-significant amendment.

Public involvement was an important part of the decision-making process for this proposal. On June 10, 1999, the Forests started scoping with the mailing of letters to interested parties and a news release to the local newspapers. A public old growth meeting was held on August 17, 1999. An old growth update was mailed to interested publics on November 20, 2000. The Forests are notifying interested publics of the availability of the environmental assessment. The Forest Service is an equal opportunity organization.

Dated: February 28, 2001.
James L. Schuler,
Forest Supervisor.

[FR Doc. 01-9285 Filed 4-13-01; 8:45 am]

BILLING CODE 3410-11-M